DEPARTMENT OF LABOR

Office of the Secretary

Submission for OMB Review; Comment Request

November 26, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by contacting the Department of Labor. To obtain documentation, contact Darrin King on 202-693-4129 (this is not a toll-free number) or E-Mail: reeves.vanessa2@dol.gov.

Comments should be sent to Office of Information and Regulatory Affairs, Attn: OMB Desk Officer for the Employment and Training Administration (ETA), Office of Management and Budget, Room 10235, Washington, DC 20503 (202-395-7316 / this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Revision of a currently approved collection.

Title: Workforce Investment Act: National Emergency Grant (NEG) Assistance-Application and Reporting Procedures.

OMB Number: 1205-0439.

Affected Public: State, local, or tribal government.

Type of Response: Reporting.

Frequency: On occasion and quarterly.

Number of Respondents: 150.

Information collection | Estimated number of respondents | Frequency | Estimated annual responses | Average response time (hours) | Estimated annual burden hours
SF-434 (OMB No. 0348-0043) | 150 | 1 time | 150 | 0.75 | 113
Narrative Summary | 150 | 1 time | 150 | 1 | 150
TAA Certification Report | 50 | 1 time | 50 | 0.5 | 25
ETA-9103 | 150 | 1 time | 150 | 1.5 | 225
ETA-9105 | 75 | 1 time | 75 | 0.5 | 38
ETA-9106 | 150 | 1 time | 150 | 1 | 150
ETA-9107 | 100 | 1 time | 100 | 0.25 | 25
ETA-9104 | 150 | Quarterly | 600 | 0.5 | 300
Grant Modifications | 140 | 1 time | 140 | 0.5 | 70
Total |  |  | 1,565 |  | 1,096

Total Annualized Capital/Startup Costs: $0.

Total Annual Costs (operating/maintaining systems or purchasing services): $0.

Description: The Department of Labor/Employment and Training Administration announces policies and application and reporting procedures for states and local entities to enable them to access funds for National Emergency Grant (NEG) programs. NEGs are discretionary grants intended to complement the resources and service capacity at the State and local area levels by providing supplemental funding for workforce development and employment services and other adjustment assistance for dislocated workers and other eligible individuals as defined in sections 101, 134 and 173 of the Workforce Investment Act; sections 113, 114 and 203 of the Trade Act of 2002; and 20 CFR 671.140.

Ira L. Mills,
Departmental Clearance Officer.

[FR Doc. 03-30248 Filed 12-4-03; 8:45 am]

BILLING CODE 4510-30-P